DEPARTMENT OF HEALTH AND HUMAN SERVICES

Office of the National Coordinator for Health Information Technology; Notice of Intent To Hold a Public Meeting To Share Information on Establishing an American Health Information Community Successor

SUMMARY: On August 17, 2007, Secretary Leavitt will lead a public meeting to raise awareness of the implementation strategy for the AHIC successor and encourage collaboration. The AHIC is a federally-chartered advisory committee that provides input and recommendations to the Department of Health and Human Services (HHS) on how to make health records digital and interoperable, and how to assure that the privacy and security of those records are protected. (Please visit http://www.hhs.gov/healthit/community/background/ for more information on the AHIC.) The AHIC charter specifies that the AHIC will develop and advance recommendations to the Secretary on a private-sector health information community initiative that will succeed the AHIC. The AHIC successor will bring together public and private, not-for-profit and for-profit entities that represent all sectors of the health community. This new public-private partnership will develop a unified approach to realize an effective, secure, interoperable nationwide health information system that improves the quality, safety, and efficiency of health care in the U.S.

For the purposes of facilitating the establishment of the AHIC successor and convening a planning board, HHS will award a Cooperative Agreement that allows for substantial involvement by the Federal Government. Once a new legal entity is established and after certain conditions are met, HHS will support that entity through additional funding that will enable initial operations and transition of specific AHIC responsibilities by late Fall 2008.

DATES: August 17, 2007, from 10 a.m. to 12:30 p.m. (EDT); registration opens at 9:30 a.m.

ADDRESSES: Hubert H. Humphrey building (200 Independence Avenue, SW., Washington, DC 20201), Conference Room 800.

A webcast of the public meeting will be available on the NIH Web site at: http://www.videocast.nih.gov/.

For technical assistance with the webcast, please contact: Center for Information Technology, National Institutes of Health, Bethesda, Maryland 20892, local (301) 496-4357, toll free (866) 319-4357, TDD (301) 496-8294.

Instructions will be available on the day of the meeting about how to submit questions or comments via phone or e-mail.

For Further Information and To Confirm Meeting Time: visit http://www.hhs.gov/healthit/community/background/AHICsuccessor.html. If you have special needs for the meeting, please contact (202) 690-7151.

Dated: August 7, 2007.
Judith Sparrow,
Director, American Health Information Community, Office of Programs and Coordination, Office of the National Coordinator for Health Information Technology.

[FR Doc. 07-3927 Filed 8-10-07; 8:45 am]

BILLING CODE 4150-24-M